DEPARTMENT OF THE INTERIOR

National Park Service

[NPS-WASO-NRNHL-DTS#-27355; PPWOCRADI0, PCU00RP14.R50000]

National Register of Historic Places; Notification of Pending Nominations and Related Actions

AGENCY: National Park Service, Interior.

ACTION: Notice.

SUMMARY: The National Park Service is soliciting comments on the significance of properties nominated before February 16, 2019, for listing or related actions in the National Register of Historic Places.

DATES: Comments should be submitted by March 22, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 16, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Security Trust and Savings Building, 110 Pine Ave., Long Beach, SG100003553

Orange County

Hunt Center and Library, 1645 W Valencia Dr. & 201 S. Basque Ave., Fullerton, SG100003550

MICHIGAN

Branch County

Tibbits Opera House, 14 S Hanchett St., Coldwater, SG100003577

Wayne County

Hart, Philip A., Plaza, 1 Hart Plaza, Detroit, SG100003554

MISSISSIPPI

Lowndes County

Lee, S.D., High School, 1815 Military Rd., Columbus, SG100003552

NEBRASKA

Boone County

Albion Carnegie Library, (Carnegie Libraries in Nebraska MPS AD), 437 S 3rd St., Albion, MP100003569

Burt County

Oakland City Auditorium, 401 N Oakland Ave., Oakland, SG100003570

Douglas County

Nebraska School for the Deaf, 3223 N 45th St., Omaha, SG100003571

OHIO

Pickaway County

Ohio and Erie Canal Southern Descent Historic District, Multiple, Ashville, SG100003572

WISCONSIN

Brown County

St. Mary of the Angels Church and Monastery, 645 S Irwin Ave., Green Bay, SG100003578

Manitowoc County

Schwartz, Bernard and Fern, House, 3425 Adams St., Two Rivers, SG100003551

Lincoln Boulevard Historic District, Generally bounded by both sides of Lincoln Blvd. between Cleveland Ave. & Oak St., Manitowoc, SG100003576

Milwaukee County

Milwaukee Athletic Club, 758 N Broadway, Milwaukee, SG100003549

A request for removal has been made for the following resources:

NEBRASKA

Antelope County

Bridge, (Highway Bridges in Nebraska MPS), Twp. Rd. over unnamed stream, 6.8 mi. NE of Royal, Royal vicinity, OT92000725

Boyd County

Ponca Creek Bridge, (Highway Bridges in Nebraska MPS), Co. Rd. over Ponca Cr., 3 mi. E of Lynch, Lynch vicinity, OT92000769

Cherry County

Adamson Bridge, (Highway Bridges in Nebraska MPS), NE 97 over the Niobrara R., 7.8 mi. SW of Valentine, Valentine vicinity, OT92000749

Gage County

Paddock, Algernon S., House, 1401 N 10th St., Beatrice, OT73001062

Garfield County

Burwell Bridge, (Highway Bridges in Nebraska MPS), NE 11 over the N Loup R., Burwell, OT92000715

Johnson County

Keim Stone Arch Bridge, (Highway Bridges in Nebraska MPS), Co. Rd. over unnamed stream, 3 mi. E and 1 mi. N of Tecumseh, Tecumseh vicinity, OT92000710

Knox County

Pospeshil Theatre, (Opera House Buildings in Nebraska 1867-1917 MPS), 123 Broadway, Bloomfield, OT88000935

Lancaster County

Beal Slough Bridge, (Highway Bridges in Nebraska MPS), W Pioneers Blvd. over Beal Slough, .5 mi. W of Lincoln, Lincoln vicinity, OT92000744

Otoe County

McCartney School District 17, (School Buildings in Nebraska MPS), Jct. of Steamwagon Rd. and CTH 59, Nebraska City, OT00001379

Thurston County

North Omaha Creek Bridge, (Highway Bridges in Nebraska MPS), Twp. Rd. over N. Omaha Cr., 3 mi. SW of Winnebago, Winnebago vicinity, OT92000727

Additional documentation has been received for the following resources:

MICHIGAN

Wayne County

Campau, Jos., Historic District, Bounded by Holbrook, Pulaski, Casmere, & Lehman Sts., Hamtramck, AD12000870

NORTH DAKOTA

Stutsman County

Dickey, Alfred, Free Library, 105 3rd St. SE, Jamestown, AD80004545

Authority: Section 60.13 of 36 CFR part 60.

Dated: February 19, 2019.
Christopher Hetzel,
Acting Chief, National Register of Historic Places/National Historic Landmarks Program.

[FR Doc. 2019-04118 Filed 3-6-19; 8:45 am]

BILLING CODE 4312-52-P